GENERAL SERVICES ADMINISTRATION

41 CFR Parts 300-3, 301-10, 301-51, 301-52, 301-70, 301-75, Appendix C to Chapter 301, 302-6, and 302-9

[FTR Amendment 2010-02; FTR Case 2010-302; Docket Number 2010-0010, sequence 1]

RIN 3090-AJ02

Federal Travel Regulation (FTR); Transportation in Conjunction With Official Travel and Relocation

AGENCY: Office of Governmentwide Policy, General Services Administration (GSA).

ACTION: Final rule.

SUMMARY: This final rule amends the Federal Travel Regulation (FTR), by adding new terms and definitions for “Official travel” and “Transit system”; clarifies reimbursement for transportation at an official station while en route to and/or from an authorized temporary duty (TDY) location; clarifies reimbursement for transportation expenses within the surrounding area of a TDY location and provisions for payment under the FTR; and clarifies when the Government contractor-issued travel charge card must be used while on official travel. Clarification of this rule is addressed in the supplementary information below.

DATES: Effective date: This final rule is effective June 4, 2010. Applicability date: This final rule is applicable to travel performed on and after June 4, 2010.

FOR FURTHER INFORMATION CONTACT: The Regulatory Secretariat (MVCB), Room 4041, GS Building, Washington, DC 20405, (202) 501-4755, for information pertaining to status or publication schedules. For clarification of content, contact Rick Miller, Office of Governmentwide Policy, at (202) 501-3822 or e-mail at rodney.miller@gsa.gov. Please cite FTR Amendment 2010-02, FTR case 2010-302.

SUPPLEMENTARY INFORMATION:

A. Background

Title 5, United States Code § 5707 (5 U.S.C. 5707), authorizes the Administrator of General Services to prescribe necessary regulations to implement laws regarding Federal employees who are traveling while in the performance of official business away from their official stations. Similarly, 5 U.S.C. 5738 mandates that the Administrator of General Services prescribe regulations relating to official relocation. The overall implementing authority is the Federal Travel Regulation (FTR), codified in Title 41 Code of Federal Regulations, Chapters 300-304 (41 CFR chapters 300-304). Expenses incurred at an employee's official station not in conjunction with TDY and/or relocation do not fall under the authority of the FTR. Therefore, this final rule adds terms and definitions for “Official travel” and “Transit system” and also removes references to “local travel,” “local transit system,” “local transportation,” “local transportation system,” “local telephone calls,” and “local metropolitan transportation fares,” for reimbursement that is not in conjunction with TDY and/or relocation. Federal employees should adhere to their agency's policies for reimbursement of expenses incurred for transportation within the vicinity of their official stations when expenses do not pertain to TDY or relocation. This final rule clarifies that the Government contractor-issued travel charge card will only be used for the purposes of official travel-related expenses and not for personal use while on an official travel authorization.

B. Executive Order 12866

This is not a significant regulatory action and, therefore, was not subject to review under Section 6(b) of Executive Order 12866, Regulatory Planning and Review, dated September 30, 1993. This final rule is not a major rule under 5 U.S.C. 804.

C. Regulatory Flexibility Act

This final rule will not have a significant economic impact on a substantial number of small entities within the meaning of the Regulatory Flexibility Act, 5 U.S.C. 601, et seq., because the revisions are not considered substantive. This final rule is also exempt from the Regulatory Flexibility Act per 5 U.S.C. 553(a)(2) because it applies to agency management.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Parts 300-3, 301-10, 301-51, 301-52, 301-70, 301-75, 302-6, and 302-9, and Appendix C to Chapter 301

Government employees, Travel and transportation expenses.

Dated: March 25, 2010.
Martha Johnson,
Administrator of General Services.

For the reasons set forth in the preamble, under 5 U.S.C. 5701-5709 and 5721-5738, 41 CFR subtitle F is amended as follows:

CHAPTER 300—GENERAL

PART 300-3—GLOSSARY OF TERMS

1. The authority citation for 41 CFR part 300-3 is revised to read as follows:

Authority: 5 U.S.C. 5707; 40 U.S.C. 121(c); 49 U.S.C. 40118; 5 U.S.C. 5738; 5 U.S.C. 5741-5742; 20 U.S.C. 905(a); 31 U.S.C. 1353; E.O. 11609, as amended; 3 CFR, 1971-1975 Comp., p. 586, OMB Circular No. A-126, revised May 22, 1992.

2. Amend § 300-3.1 by adding in alphabetical order, the definitions “Official travel” and “Transit system” to read as follows:

§ 300-3.1 What do the following terms mean?

* * * * *

Official travel—Travel under an official travel authorization from an employee's official station or other authorized point of departure to a temporary duty location and return from a temporary duty location, between two temporary duty locations, or relocation at the direction of a Federal agency.

* * * * *

Transit system—A form of transportation (e.g., air, rail, bus, ship, etc.) used between authorized locations in the performance of official travel.

* * * * *

CHAPTER 301—TEMPORARY DUTY (TDY) TRAVEL ALLOWANCES

PART 301-10—TRANSPORTATION EXPENSES

3. The authority citation for 41 CFR part 301-10 is revised to read as follows:

Authority: 5 U.S.C. 5707, 40 U.S.C. 121(c); 49 U.S.C. 40118; OMB Circular No. A-126, revised May 22, 1992.

4. Revise § 301-10.1 to read as follows:

§ 301-10.1 Am I eligible for payment of transportation expenses?

Yes, you are eligible for payment of transportation expenses when performing official travel, including authorized transportation expenses incurred within the TDY location.

§ 301-10.3 [Amended]

5. Amend § 301-10.3 by removing from paragraph (a) the word “local” and adding the word “other” in its place.

§ 301-10.100 [Amended]

6. Amend § 301-10.100 by removing the word “local” and adding the word “other” in its place.

7. Revise the undesignated center heading that appears immediately before § 301-10.190 to read as follows:

Transit Systems

8. Revise § 301-10.190 to read as follows:

§ 301-10.190 When may I use a transit system as a means of transportation in conjunction with official travel?

You may use a transit system as a means of transportation in conjunction with official travel when such transportation is authorized and approved by your agency in the following manner:

(a) At your official station. (1) From your residence or other authorized point of departure, e.g., rail to airport;

(2) To your residence or other authorized point of return, e.g., airport to rail;

(3) From your residence to your office on the day you depart the official station on official TDY that requires at least one night's lodging; or

(4) From your office to your residence on the day you return to the official station from an official TDY assignment that required at least one night's lodging.

(b) At your TDY location. (1) From the TDY transit system station(s) to your place of lodging or place of official business and return;

(2) To, from, and between your places of lodging and official business;

(3) Between places of official business; or

(4) To obtain meals at the nearest available place when the nature and location of the official business or the lodging at a TDY location are such that meals cannot be obtained there. You must attach a statement or include electronic remarks with your travel voucher explaining why such transportation was necessary.

9. Revise § 301-10.420 to read as follows:

§ 301-10.420 When may I use a taxi, shuttle service or other courtesy transportation?

(a) When authorized and approved by your agency, your transportation expenses in the performance of official travel are reimbursable for the usual fare plus tip for use of a taxi, shuttle service or other courtesy transportation (if charges result), in the following manner:

(1) At your official station. (i) From your residence or other authorized point of departure, e.g., residence to airport;

(ii) To your residence or other authorized point of return, e.g., airport to residence;

(iii) From your residence to your office on the day you depart the official station on official TDY that requires at least one night's lodging; or

(iv) From your office to your residence on the day you return to the official station from an official TDY assignment that required at least one night's lodging.

(2) At your TDY location. (i) From the TDY transit system station to your place of lodging or place of official business and return;

(ii) To, from, and between your places of lodging and official business;

(iii) Between places of official business; or

(iv) To obtain meals at the nearest available place when the nature and location of the official business or the lodging at a TDY location are such that meals cannot be obtained there. You must attach a statement or include electronic remarks with your travel voucher explaining why such transportation was necessary.

(b) Courtesy transportation. You should use courtesy transportation service furnished by hotels/motels to the maximum extent possible as a first source of transportation between a place of lodging at the TDY station and a common carrier terminal. You will be reimbursed for tips when you use courtesy transportation service.

(c) Restrictions. When appropriate, your agency will restrict or place a monetary limit on the amount of reimbursement for the use of taxicabs under this paragraph when—

(1) Suitable Government or common carrier transportation service, including shuttle service, is available for all or part of the distance involved; or

(2) Courtesy transportation service is provided by hotels/motels between the place of lodging at the TDY station and the common carrier terminal.

PART 301-51—PAYING TRAVEL EXPENSES

10. The authority citation for 41 CFR part 301-51 continues to read as follows:

Authority: 5 U.S.C. 5707. Subpart A is issued under the authority of Sec. 2, Pub. L. 105-264, 112 Stat. 2350 (5 U.S.C. 5701 note); 40 U.S.C. 121(c).

11. Amend § 301-51.2 by revising paragraph (d) to read as follows:

§ 301-51.2 What official travel expenses and/or classes of employees are exempt from the mandatory use of the Government contractor-issued travel charge card?

* * * * *

(d) Transit system at a TDY location;

* * * * *

12. Revise § 301-51.6 to read as follows:

§ 301-51.6 For what purposes may I use the Government contractor-issued travel charge card while on official travel?

You are required to use the Government contractor-issued travel charge card for expenses directly related to your official travel.

13. Revise § 301-51.7 to read as follows:

§ 301-51.7 May I use the Government contractor-issued travel charge card for personal reasons while on official travel?

No, you may not use the Government contractor-issued travel charge card for personal reasons while on official travel.

14. Add § 301-51.8 to read as follows:

§ 301-51.8 What are the consequences if I misuse the Government contractor-issued travel charge card on official travel?

Your agency may take appropriate disciplinary action if you misuse the Government contractor-issued travel charge card according to internal agency policies and procedures.

§ 301-51.200 [Amended]

15. Amend § 301-51.200, paragraph (a) introductory text, in the second column of the table, by adding “are on official” before the word “travel” and in paragraph (a)(2), in the first column of the table, by removing “local transportation system” and adding “transit systems” in its place.

PART 301-52—CLAIMING REIMBURSEMENT

16. The authority citation for 41 CFR Part 301-52 continues to read as follows:

Authority: 5 U.S.C. 5707; 40 U.S.C. 121(c); Sec. 2., Pub. L. 105-264, 112 Stat. 2350 (5 U.S.C. 5701 note).

17. Amend § 301-52.2 by revising paragraph (a)(1) to read as follows:

§ 301-52.2 What information must I provide in my travel claim?

* * * * *

(a) * * *

(1) You may aggregate official travel-related expenses incurred at the TDY location for authorized telephone calls, transit system fares, and parking meter fees, except any individual expenses costing over $75 must be listed separately;

* * * * *

PART 301-70—INTERNAL POLICY AND PROCEDURE REQUIREMENTS

18. The authority citation for 41 CFR Part 301-70 is revised to read as follows:

Authority: 5 U.S.C. 5707; 40 U.S.C. 121(c); Sec. 2, Pub. L. 105-264, 112 Stat. 2350 (5 U.S.C. 5701, note), OMB Circular No. A-126, revised May 22, 1992, and OMB Circular No. A-123, Appendix B, revised January 15, 2009.

§ 301-70.102 [Amended]

19. Amend § 301-70.102 by removing from paragraph (h) introductory text “For local transportation whether” and adding the word “Whether” in its place; and adding “in conjunction with TDY” before the word “or”.

20. Amend § 301-70.704 by revising paragraph (d) to read as follows:

§ 301-70.704 What expenses and/or classes of employees are exempt from the mandatory use of the Government contractor-issued travel charge card?

* * * * *

(d) Transit system at a TDY location;

* * * * *

21. Revise § 301-70.706 to read as follows:

§ 301-70.706 For what purposes may an employee use the Government contractor-issued travel charge card while on official travel?

An employee is required to use the Government contractor-issued travel charge card for expenses directly related to official travel.

22. Revise § 301-70.707 to read as follows:

§ 301-70.707 May an employee use the Government contractor-issued travel charge card for personal use while on official travel?

No, an employee may not use the Government contractor-issued travel charge card for personal use while on official travel.

§ 301-70.708 [Redesignated as § 301-70.709]

23. Redesignate § 301-70.708 as section § 301-70.709.

24. Add new § 301-70.708 to read as follows:

§ 301-70.708 What actions may we take if an employee misuses the Government contractor-issued travel charge card while on official travel?

You may take appropriate disciplinary action if an employee misuses the Government contractor-issued travel charge card. Internal agency policies and procedures should define what the agency considers to be misuses of the travel charge card.

PART 301-75—PRE-EMPLOYMENT INTERVIEW TRAVEL

25. The authority citation for 41 CFR part 301-75 continues to read as follows:

Authority: 5 U.S.C. 5707.

§ 301-75.200 [Amended]

26. Amend § 301-75.200, in the first column of the table, in the first entry, by removing “local transportation” and adding “transit systems at the agency's location” in its place.

Appendix C to Chapter 301 [Amended]

27. Amend Appendix C to Chapter 301 by—

a. In the second table, under the heading “Commercial Transportation Information”, in the first column under the heading “Group name”, removing the fifth entry, “Local Transportation Indicator” and adding “Transportation in Performance of TDY or While at the TDY Location” in its place;

b. In the second table, under the heading “Commercial Transportation Information”, in the third column under the heading “Description”, removing the last entry, “Identifies local transportation used while on TDY” and adding “Identifies transportation used while in the performance of TDY or while at the TDY location” in its place; and

c. In the third table, under the heading “Travel Expense Information”, in the first column under the heading “Group name”, removing the fifth entry, “Local Transportation (in, around, or about the temporary duty station)” and adding “Transportation in Performance of TDY or While at the TDY Location” in its place.

CHAPTER 302—RELOCATION ALLOWANCES

PART 302-6—ALLOWANCE FOR TEMPORARY QUARTERS SUBSISTENCE EXPENSES

28. The authority citation for 41 CFR part 302-6 is revised to read as follows:

Authority: 5 U.S.C. 5738; 20 U.S.C. 905(a); E.O. 11609, as amended, 3 CFR, 1971-1973 Comp., p. 586.

§ 302-6.2 [Amended]

29. Amend § 302-6.2 by removing the word “local”.

30. Revise § 302-6.18 to read as follows:

§ 302-6.18 May I be reimbursed for transportation expenses incurred while I am occupying temporary quarters?

Transportation expenses incurred in the vicinity of the temporary quarters are not TQSE, and therefore, there is no authority to pay such expenses under TQSE.

PART 302-9—ALLOWANCES FOR TRANSPORTATION AND EMERGENCY STORAGE OF A PRIVATELY OWNED VEHICLE

31. The authority citation for 41 CFR part 302-9 is revised to read as follows:

Authority: 5 U.S.C. 5738; 20 U.S.C. 905(a); E.O. 11609, as amended, 3 CFR, 1971-1973 Comp., p. 586.

§ 302-9.10 [Amended]

32. Amend § 302-9.10, by removing the word “local” wherever it appears.

[FR Doc. 2010-10235 Filed 5-4-10; 8:45 am]

BILLING CODE 6820-14-P